DEPARTMENT OF COMMERCE

National Oceanic and Atmospheric Administration

RIN 0648-XC703

Endangered Species; File Nos. 17557 and 17273

AGENCY: National Marine Fisheries Service (NMFS), National Oceanic and Atmospheric Administration (NOAA), Commerce.

ACTION: Notice; receipt of applications.

SUMMARY: Notice is hereby given that the National Ocean Service Marine Forensic Lab (NOS Lab) [Responsible Party: M. Katherine Moore], 219 Fort Johnson Road, Charleston, SC 29412 (File No. 17557), and the NOAA Fisheries Northeast Region, Protected Resources Division [Responsible Party: Mary Colligan], 1 Blackburn Drive, Gloucester, MA 01930 (File No. 17273), have applied in due form for permits to take marine mammal and endangered species parts for purposes of scientific research.

DATES: Written, telefaxed, or email comments must be received on or before July 1, 2013.

ADDRESSES: The applications and related documents are available for review by selecting Records Open for Public Comment from the Features box on the Applications and Permits for Protected Species (APPS) home page, https://apps.nmfs.noaa.gov, and then selecting File No. 17557 or 17273 from the list of available applications.

These documents are also available upon written request or by appointment in the following offices: Permits and Conservation Division, Office of Protected Resources, NMFS, 1315 East-West Highway, Room 13705, Silver Spring, MD 20910; phone (301) 427-8401; fax (301) 713-0376;

File No. 17273: Northeast Region, NMFS, 55 Great Republic Drive, Gloucester, MA 01930; phone (978) 281-9328; fax (978) 281-9394; and

File No. 17557: Southeast Region, NMFS, 263 13th Avenue South, Saint Petersburg, FL 33701; phone (727) 824-5312; fax (727) 824-5309.

Written comments on these applications should be submitted to the Chief, Permits and Conservation Division

• by email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on these applications would be appropriate.

FOR FURTHER INFORMATION CONTACT: Colette Cairns or Jennifer Skidmore, (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

The NOS Lab (File No. 17557) is requesting authority to receive, import, export, transfer, archive, and conduct analyses on an unlimited number of marine mammal and endangered species parts. Species include all cetaceans, pinnipeds (except for walrus), sea turtles (in the water), smalltooth (Pristis pectinata) and largetooth (Pristis perotteti) sawfish, shortnose (Acipenser brevirostrum), green (Acipenser medirostris), Atlantic (Acipenser oxyrinchus oxyrinchus) and Gulf (Acipenser oxyrinchus desotoi) sturgeon, black (Haliotis cracherodii) and white (Haliotis sorenseni) abalone, chinook (Oncorhynchus tshawytscha), chum (Oncorhynchus keta), coho (Oncorhynchus kisutch) and sockeye (Oncorhynchus nerka) salmon, steelhead trout (Oncorhynchus mykiss), and totoaba (Totoaba macdonaldi). Samples would be archived at the NOS Lab and used to support law enforcement actions, research studies (primarily genetics), and outreach education. No live takes from the wild would be authorized. The permit would be valid for five years from the date of issuance.

The NOAA Fisheries Northeast Region (File No. 17273) requests authorization to collect, receive and transport 100 dead shortnose and 100 dead Atlantic sturgeon, or parts thereof, annually. Researchers also request authorization for the receipt and transport of up to 350 captive bred, dead shortnose sturgeon and up to 75 dead, captive bred Atlantic sturgeon annually from any U.S. facility authorized to hold captive sturgeon. The applicant requests authorization for the receipt, importation, exportation, transfer, archive and analysis of Atlantic and shortnose sturgeon parts and carcasses. Sturgeon samples would be obtained from individuals authorized to collect them in the course of scientific research, salvage activities, or taken during other authorized activities. Sturgeon parts and samples would be used to support law enforcement actions, research studies (primarily genetics), and outreach education. The permit would be valid for five years from the date of issuance.

Dated: May 28, 2013.
P. Michael Payne,
Chief, Permits and Conservation Division, Office of Protected Resources, National Marine Fisheries Service.

[FR Doc. 2013-12947 Filed 5-30-13; 8:45 am]

BILLING CODE 3510-22-P